DEPARTMENT OF ENERGY

Federal Energy Regulatory Commission

[Project No. 2984-0421]

S.D. Warren Company; Notice of Scoping Meetings and Site Visit and Soliciting Scoping Comments for the Eel Weir Project

September 27, 2002.

The Federal Energy Regulatory Commission (Commission) is reviewing S.D. Warren Company's application for a new license for the continued operation of the Eel Weir Hydroelectric Project. Pursuant to the National Environmental Policy Act of 1969, as amended, and procedures of the Federal Energy Regulatory Commission, the Commission staff intends to prepare an Environmental Assessment (EA) for the Eel Weir Project. The EA will evaluate the environmental effects of issuing a new license for the project. The Eel Weir Project is located on the Presumpscot River, at the outlet of Sebago Lake, in Cumberland County, Maine. The project does not occupy federal lands.

The EA will objectively consider both site-specific and cumulative environmental effects, if any, of the proposed action and reasonable alternatives to the proposed action. The preparation of the staff's EA will be supported by a scoping process to ensure identification and analysis of all pertinent issues.

Scoping Meetings

The Commission staff will hold two scoping meetings in the vicinity of the project; an evening meeting and a morning meeting. The evening meeting is primarily for receiving input from the public, while the morning meeting will focus on resource agency and non-governmental organization (NGO) concerns. We invite all interested individuals, organizations, and agencies to attend one or both of the meetings, and to assist the staff in identifying the scope of the environmental issues that should be analyzed in the EA. The times and locations of the meetings are as follows:

Evening Scoping Meeting

When: Tuesday, October 22, 2002, From 7 p.m. until 10 p.m.

Where: Windham High School cafeteria, 406 Gray Road, Windham, ME 04062

Morning Scoping Meeting

When: Wednesday, October 23, 2002, From 9 a.m. until 12 noon

Where: Holiday Inn, Portland West, 81 Riverside Street, Portland, ME 04103

Copies of Scoping Document 1 (SD1), which outlines the subject areas to be addressed in the EA, were distributed to the parties on the Commission's mailing list. Copies of SD1 also will be available at the scoping meetings, or may be viewed on the Web at http://www.ferc.gov using the “FERRIS” link. Enter the docket number, excluding the last three digits in the docket number field, to access the document. For assistance, call (202) 502-8222.

Site Visit

The applicant and Commission staff will conduct a site visit of the project on Tuesday, October 22, 2002, starting at 9:00 a.m. All interested individuals, organizations, and agencies are invited to attend. All participants should meet at the parking lot where Rt. 35 crosses the Eel Weir bypassed reach. All participants are responsible for their own transportation to the site. Anyone with questions about the site visit should contact Mr. Thomas Howard of S.D. Warren Company at (207) 856-4286 on or before October 15, 2002.

Meeting Objectives

At the scoping meetings, the Commission staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Meeting Procedures

The scoping meetings will be recorded by a court reporter, and all statements (oral and written) will become part of the Commission's public record for the project. Individuals presenting statements at the meetings will be asked to clearly identify themselves for the record. Interested individuals who choose not to speak, or are unable to attend the scoping meetings, may provide written comments and information to the Commission, as described in Section 2.3 of SD1.

Individuals, organizations, and agencies with environmental expertise and concerns are encouraged to attend one or both of the meetings, and to assist the staff in defining and clarifying the issues to be addressed in the EA. Any questions concerning the scoping process can be directed to Allan Creamer, the Commission's Environmental Coordinator for the Eel Weir Project, at (202) 502-8365.

Linwood A. Watson, Jr.,
Deputy Secretary.

[FR Doc. 02-25123 Filed 10-2-02; 8:45 am]

BILLING CODE 6717-01-P